AGENCY FOR INTERNATIONAL DEVELOPMENT

Notice of Meeting

Pursuant to the Federal Advisory Committee Act, Notice is Hereby Given of a Meeting of the Advisory Committee on Voluntary Foreign Aid (ACVFA).

Date: May 14, 2003 (9 a.m. to 5 p.m.).

Location: National Press Club, 529 14th St., NW., 13th Floor, Washington, DC.

This meeting will feature discussion of the administration's proposed Millennium Challenge Account and post-conflict reconstruction. Participants will have an opportunity to ask questions of the speakers and participate in the discussion.

The meeting is free and open to the public. Persons wishing to attend the meeting can fax or e-mail their name to Brenda Jackson, (202) 347-9212, pvcsupport@datexinc.com.

Dated: April 14, 2003.
Noreen O'Meara,
Executive Director, Advisory Committee on Voluntary Foreign Aid (ACVFA).

[FR Doc. 03-10224 Filed 4-24-03; 8:45 am]

BILLING CODE 6116-01-P